DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forests' Lincoln County Resource Advisory Committee will meet on March 3, 2004 at 6 p.m. in Libby, Montana for business meetings. The meetings are open to the public.

DATES: March 3, 2004.

ADDRESSES: The meetings will be held at the Forest Supervisor's Office, 1101 US Highway 2 West, Libby.

FOR FURTHER INFORMATION CONTACT: Barbara Edgmon, Committee Coordinator, Kootenai National Forest at (406) 293-6211, or e-mail bedgmon@fs.fed.us.

SUPPLEMENTARY INFORMATION: Agenda topics include decisions on Forest Service recreation projects that may need funding, RAC logo and receiving public comment. If the meeting date or location is changed, notice will be posted in the local newspapers, including the Daily Interlake based in Kalispell, MT.

Dated: February 9, 2004.
Bob Castaneda,
Forest Supervisor.

[FR Doc. 04-3344 Filed 2-13-04; 8:45 am]

BILLING CODE 3410-11-M